DEPARTMENT OF HOUSING AND URBAN DEVELOPMENT

[Docket No. FR-4743-N-04]

Notice of Planned Closing of Rapid City, South Dakota Post-of-Duty Station

AGENCY: Office of Inspector General, HUD.

ACTION: Notice of Planned Closing of Rapid City, South Dakota Post-of-Duty Station.

SUMMARY: This notice advises the public that the HUD Office of Inspector General (OIG) is closing its Rapid City, South Dakota post-of-duty station, and also provides a cost-benefit analysis of the impact of the closure.

FOR FURTHER INFORMATION CONTACT: Bryan Saddler, Counsel to the Inspector General, Room 8260, Department of Housing and Urban Development, 451 Seventh Street, SW., Washington, DC 20410, (202) 708-1613. (This is not a toll free number.) A telecommunications device for hearing- and speech-impaired persons (TTY) is available at 1-800-877-8339 (Federal Information Relay Services).

SUPPLEMENTARY INFORMATION:

Background

In 1998, HUD/OIG established a single person post-of-duty station in Rapid City, South Dakota, to conduct an intensive investigation of allegations involving the Pine Ridge Indian Reservation. Specifically, the establishment of the office was intended to minimize substantial anticipated travel costs associated with having staff located in the Denver Regional Office perform the investigation. The investigation is now complete, and the need for a separate post-of-duty station in Rapid City is therefore unnecessary. The closing of this post-of-duty station will provide the HUD/OIG with the opportunity to generate cost savings associated with closing this station.

Section 7(p) of the Department of Housing and Urban Development Act (42 U.S.C. 3535(p)) provides that a plan for field reorganizations, which may involve the closing of any field or regional office of HUD may not take effect until 90 days after a cost-benefit analysis of the effect of the plan on the office in question is published in the Federal Register. The required cost-benefit analysis should include: (1) An estimate of cost savings anticipated; (2) an estimate of the additional cost which will result from the reorganization; (3) a discussion of the impact on the local economy; and (4) an estimate of the effect of the reorganization on the availability, accessibility, and quality of services provided for recipients of those services.

Legislative history pertaining to section 7(p) indicates that not all reorganizations are subject to the requirements of section 7(p). Congress stated that “[t]his amendment is not intended to [apply] to or restrict the internal operations or organization of the Department (such as the establishment of new or combination of existing organization units within a field office, the duty stationing of employees in various locations to provide on-site service, or the establishment or closing, based on workload, of small, informal offices such as valuations stations).” (See House Conference Report No. 95-1792, October 14, 1978 at 105-106.)

The one-person Rapid City, South Dakota post-of-duty station is a single purpose duty station, and it is being closed based on workload rather than on a reorganization of HUD/OIG field offices. Although notice of the closing of the post-of-duty station is not subject to the requirements of section 7(p), as supported by the legislative history, HUD/OIG nevertheless prepared a cost-benefit analysis for its own use in determining whether to proceed with the closing. Through this notice, HUD/OIG advises the public of the closing of the Rapid City, South Dakota post-of-duty station and provides its cost-benefit analysis of the impact of the closure.

Impact of the Closure of the Rapid City, South Dakota Post-of-Duty Station

HUD/OIG considered the costs and benefits of closing the Rapid City, South Dakota post-of-duty station, and is publishing its cost-benefit analysis with this notice. In summary, HUD/OIG has determined that the closure will result in a cost savings, and, as a result of the size and limited function of the office, will cause no appreciable impact on the provision of authorized investigative services/activities in the area.

Cost Benefit Analysis

A. Cost Savings: The Rapid City, South Dakota post-of-duty station currently costs approximately $2,200 per month for the space rental and associated overhead expenses to operate. Thus, closing the post-of-duty will result in annual savings of at least $26,000. In addition, by closing the office, HUD/OIG will not be required to incur additional costs associated with current plans to install high-speed computer access lines to and on the premises.

B. Additional Costs: There are no offsetting expenses anticipated. Currently, no Special Agent is assigned to the Rapid City, South Dakota post-of-duty station, and, therefore, relocation costs are not associated with the closure.

C. Impact on Local Economy: No appreciable impact on the local economy is anticipated. Another Federal agency has already expressed an interest in taking over the office space that HUD/OIG leases in Rapid City, South Dakota.

D. Effect on Availability, Accessibility and Quality of Services Provided to Recipients of Those Services: The establishment of the Rapid City, South Dakota post-of-duty station was based largely on needs associated with HUD/OIG's investigation of the Pine Ridge Indian Reservation, which has since concluded. Further, as was the case prior to 1998, ordinary or less intensive fraud investigations in the Rapid City area can be effectively addressed by agents assigned to the Denver Regional Office.

For the reasons stated in this notice, HUD/OIG intends to proceed to close its Rapid City, South Dakota post-of-duty station at the expiration of the 90-day period from the date of publication of this notice.

Dated: July 9, 2002.
Kenneth M. Donohue,
Inspector General.

[FR Doc. 02-17930 Filed 7-16-02; 8:45 am]

BILLING CODE 4210-68-P